DEPARTMENT OF JUSTICE

Notice of Lodging of Consent Decree Under the Comprehensive Environmental Response, Compensation, and Liability Act

Notice is hereby given that on September 14, 2001 a proposed Consent Decree (“Decree”) in United States v. RSO, Inc., Civil Action No. 01-WM-1801, was lodged with the United States District Court for the District of Colorado. The United States filed this action pursuant to Section 107(a)(4) of the Comprehensive Environmental Response, Compensation, and Liability Act (“CERCLA”), 42 U.S.C. 9607(a)(4), for costs EPA incurred in responding to the release or threatened release of hazardous substances at or from the RAMP Industries Site in Denver, Colorado. Under the terms of the Decree RSO, Inc. will pay the United States $200,000. This payment amount is based on an analysis of defendant's financial resources.

The Department of Justice will receive for a period of thirty (30) days from the date of this publication comments relating to the Decree. Comments should be addressed to the Assistant Attorney General, Environment and Natural Resources Division, P.O. Box 7611, U.S. Department of Justice, Washington, DC 20044-7611, and should refer to United States v. RSO, Inc., D.J. Ref. 90-11-2-1290/3.

The Decree may be examined at the offices of EPA Region VIII, 999 18th Street, Suite 500 South Tower, Denver, Colorado. A copy of the Decree may also be obtained by mail from the Consent Decree Library, P.O. Box 7611, U.S. Department of Justice, Washington, D.C. 20044-7611. In requesting a copy of the Decree, please enclose a check payable to the Consent Decree Library for $4.25 for a complete copy of the decree (25 cents per page reproduction cost).

Robert Brook,
Assistant Section Chief, Environmental Enforcement Section, Environment and Natural Resources Division.

[FR Doc. 01-23997 Filed 9-25-01; 8:45 am]

BILLING CODE 4410-15-M